DEPARTMENT OF HEALTH AND HUMAN SERVICES

Announcement of the Sixth Meeting of the 2025 Dietary Guidelines Advisory Committee

AGENCY: Department of Health and Human Services (HHS), Office of the Assistant Secretary for Health (OASH), Office of Disease Prevention and Health Promotion; Department of Agriculture (USDA), Food, Nutrition, and Consumer Services (FNCS).

ACTION: Notice.

SUMMARY: The Departments of Health and Human Services and Agriculture announce the sixth meeting of the 2025 Dietary Guidelines Advisory Committee (Committee). This meeting will be open to the public virtually.

DATES: The sixth Committee meeting will be held on September 25, 2024, from 9:00 a.m. to 4:30 p.m. Eastern Time and on September 26, 2024, from 8:30 a.m. to 3:00 p.m. Eastern Time. Registration is required for the livestream and opens to the public on August 26, 2024, at DietaryGuidelines.gov.

ADDRESSES: The meeting will be accessible online via livestream and recorded for later viewing. Registrants will receive the livestream information prior to the meeting.

FOR FURTHER INFORMATION CONTACT: Designated Federal Officer, 2025 Dietary Guidelines Advisory Committee, Janet M. de Jesus, MS, RD; Office of Disease Prevention and Health Promotion, 1101 Wootton Parkway, Suite 420, Rockville, MD 20852; Phone: 240-453-8266; Email DietaryGuidelines@hhs.gov. Additional information is at DietaryGuidelines.gov.

SUPPLEMENTARY INFORMATION:

Authority and Purpose: Under Section 301 of Public Law 101-445 (7 U.S.C. 5341, the National Nutrition Monitoring and Related Research Act of 1990, Title III), the Secretaries of HHS and USDA are directed to publish the Dietary Guidelines for Americans jointly at least every five years. See 88 FR 3423, January 19, 2023, for notice of the first meeting of the 2025 Dietary Guidelines Advisory Committee, the complete Authority and Purpose, and the Committee's Task. The 2025 Dietary Guidelines Advisory Committee is formed and governed under the provisions of the Federal Advisory Committee Act (FACA), Public Law 92-463, as amended (5 U.S.C., App).

Purpose of the Meeting: The Committee will meet to provide subcommittee updates, including presentations by each subcommittee and deliberation by the full Committee regarding progress made since the fifth public meeting, including evidence review and synthesis, draft conclusion statements, draft Scientific Report, and plans for future Committee work.

Meeting Agendas: The agenda will be announced in advance of the meeting on DietaryGuidelines.gov.

Meeting Registration: This Committee meeting is open to the public. The meeting will be accessible online via livestream and recorded for later viewing. To register, go to DietaryGuidelines.gov and click on the link for “Meeting Registration.” Meeting materials for each meeting will be accessible at DietaryGuidelines.gov. Materials may be requested by email at DietaryGuidelines@hhs.gov.

Public Comments: A call for written public comment to the Committee opened on January 19, 2023, and will remain open throughout the Committee's deliberations. Written comments may be submitted at Regulations.gov (Document ID: HHS-OASH-2022-0021-0001).

Dated: August 20, 2024.
Paul Reed,
Deputy Assistant Secretary for Health, Office of Disease Prevention and Health Promotion.

[FR Doc. 2024-18988 Filed 8-22-24; 8:45 am]

BILLING CODE 4150-32-P